DEPARTMENT OF ENERGY

Federal Energy Regulatory Commission

[Docket No. GT02-38-001]

Northern Natural Gas Company; Notice of Compliance Filing

October 8, 2002.

Take notice that on October 4, 2002, Northern Natural Gas Company (Northern), tendered for filing in its FERC Gas Tariff, Fifth Revised Volume No. 1, the following tariff sheet, with an effective date of September 23, 2002:

Substitute Fifth Revised Sheet No. 289

Northern states that the filing is being made in compliance with the Commission's order issued on September 20, 2002, in Docket No. GT02-38-000.

Northern further states that copies of the filing have been mailed to each of its customers and interested State Commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-26078 Filed 10-11-02; 8:45 am]

BILLING CODE 6717-01-P